DEPARTMENT OF COMMERCE

National Oceanic and Atmospheric Administration

RIN 0648-XD666

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will receive an overview from the Bureau of Ocean Energy Management (BOEM) about their geological and geophysical (G&G) permitting process in the Atlantic, focusing on regulations and the permitted activities for G&G surveys.

DATES: The meeting will be held on Tuesday, January 20, 2015, from 1:30 p.m. to 3:30 p.m. EST, via Internet Webinar.

ADDRESSES: The meeting will be held via Internet Webinar. To join the Webinar, follow this link and enter the online meeting room: http://mafmc.adobeconnect.com/januaryboem/

Council address: Mid-Atlantic Fishery Management Council, 800 North State Street, Suite 201, Dover, DE 19901, telephone: (302) 674-2331.

FOR FURTHER INFORMATION CONTACT: Dr. Christopher M. Moore, Executive Director, Mid-Atlantic Fishery Management Council; telephone: (302) 526-5255.

SUPPLEMENTARY INFORMATION: BOEM will give a presentation to the Council that provides an overview of the geological and geophysical (G&G) permitting process in the Atlantic, focusing on regulations and the permitted activities for G&G surveys. BOEM will outline what is included in a complete permit and discuss the coordination process. The outline will also go through the National Environmental Policy Act and internal environmental review processes and discuss the related consultation and coordination, and finally touch on mitigation and operations monitoring. BOEM staff will be available to answer any questions following the presentation.

Special Accommodations

This meeting is accessible to people with disabilities. Requests for sign language interpretation or other auxiliary aid should be directed to Kathy Collins, (302) 526-5253, at least 5 days prior to the meeting date.

Dated: December 23, 2014.
Tracey L. Thompson,
Acting Deputy Director, Office of Sustainable Fisheries, National Marine Fisheries Service.

[FR Doc. 2014-30554 Filed 12-30-14; 8:45 am]

BILLING CODE 3510-22-P